DEPARTMENT OF TRANSPORTATION

National Highway Traffic Safety Administration

49 CFR Part 572

[Docket Number NHTSA-2006-25258]

Denial of Petition Regarding 49 CFR Part 572, Subpart O, Hybrid III Fifth Percentile Small Adult Female Crash Test Dummy

AGENCY: National Highway Traffic Safety Administration (NHTSA), DOT.

ACTION: Denial of petition for rulemaking.

SUMMARY: This document denies a petition submitted by First Technology Safety Systems (FTSS) on December 30, 2002. The petition asked the agency to revise drawing dimensions for the Hybrid III 5th Female (HIII-5F) chest jacket to reflect the physical part manufactured by FTSS.

FTSS did not provide any data showing that these slight dimensional differences would affect the dummy's performance, nor did FTSS provide any justification for changing NHTSA's drawing specifications in CFR Section 49, Part 572 Subpart O drawings to FTSS's suggested specifications. Revising the Agency's drawing specifications to FTSS's suggested specifications appears to provide little to no benefit. Furthermore, FTSS did not claim they are unable to meet NHTSA's current drawing specifications. Accordingly, the agency finds no basis to revise the drawings as requested by FTSS.

FOR FURTHER INFORMATION CONTACT: For technical issues: Mr. Sean Doyle, NHTSA Office of Crashworthiness Standards. Telephone: (202) 366-1740. Facsimile: (202) 493-2739

For legal issues: Mr. J. Edward Glancy, NHTSA Office of the Chief Counsel. Telephone: (202) 366-2992. Facsimile: (202) 366-3820.

Both officials can be reached by mail at the National Highway Traffic Safety Administration, 400 Seventh Street, SW., Washington, DC 20590.

Issues Raised in the Petition

FTSS, a manufacturer of crash test dummies, petitioned NHTSA to amend the specifications of CFR Section 49, Part 572, Subpart O, “Hybrid III Fifth Percentile Small Adult Female Crash Test Dummy,” to correct claimed specification errors on two chest jacket drawings in the NHTSA drawing package. The drawings were published in support of the amended CFR Section 49 Part 572 on March 1, 2000 (65 FR 10968), which added the Hybrid III fifth percentile (HIII-5F) dummy to Part 572. Specifically, FTSS petitioned for “dimensional corrections to drawing number 880105-355-E, Sheets 1 and 2” in order to accurately reflect the physical part. FTSS states that “during the development phase of the HIII-5F dummy (about 1990), there was some dissatisfaction with the routing of the shoulder belt over the chest flesh and particularly the relationship of the belt and the breast representations.” FTSS made a manufacturing decision at that time to “lower the breasts for improved belt routing, and the molds were modified accordingly.” However, FTSS did not inform NHTSA of their decision to modify the breast location, and therefore NHTSA did not reflect this change during the Part 572 rulemaking. Dummies manufactured by FTSS since that time are inconsistent with the drawings in the CFR Section 49, Part 572 Subpart O for the HIII-5F dummy. According to FTSS, they have manufactured and delivered over 387 HIII-5F chest flesh assemblies as part of a whole dummy or as replacement parts since the HIII-5F dummy's introduction. FTSS has used the same molds for the manufacture of all the chest flesh assemblies since the dummy's introduction, and they claim that all manufactured chest flesh assemblies are geometrically identical.

Analysis of Petition

FTSS did not provide any data in their petition showing that these slight height differences in the breast location would affect the dummy's impact performance, but rather stated that the performance may change. Nevertheless, NHTSA performed a number of comparative tests between the FTSS's chest flesh assembly and Denton's chest flesh assembly, which follows the specified drawing dimensions. This testing was done to better evaluate FTSS's claim that the dimensional differences between NHTSA's drawings and FTSS's chest flesh assembly “could result in a change in the performance of the dummy.” NHTSA also thoroughly reviewed prior agency testing done with both FTSS's and Denton's chest flesh assemblies. The agency records did not find any instances where the petitioned dimensional differences in the breast height location had any significant effects on the HIII-5F dummy's performance as long as the belt restraints were properly positioned as per FMVSS No. 208 (the shoulder belt is allowed to self-position on the torso). Similar conclusions were reached by Transport Canada, which found that when the shoulder belt is allowed to lie diagonally across the chest without human guidance, as required by FMVSS No. 208, the FTSS and Denton chest flesh assemblies perform statistically the same.

It is debatable whether or not FTSS's dummy improves belt routing, but either way, the Agency considers this information insufficient justification for changing NHTSA's drawing specifications. The Agency must also consider the entire dummy industry and recognizing that there are multiple dummy manufacturers that have been producing the HIII-5F for a significant period of time and continue to produce them, the agency must weigh the benefit of changing a drawing against the adverse impact the change would have on other manufacturers. In this case, revising the Agency's drawing specifications to FTSS's suggested dimensions appears to provide little to no benefit while the adverse impact on other manufacturers could be significant. Consequently, the agency finds no basis to revise the drawings as requested by FTSS.

Conclusion

For the reasons discussed above, NHTSA is denying FTSS's petition for dimensional changes to drawing number 880105-355-E, sheets 1 and 2 of CFR Section 49, Part 572, Subpart O.

Authority: 49 U.S.C. 30162; delegations of authority at 49 CFR 1.50 and 49 CFR 501.8.

Issued on: August 3, 2006.
Stephen R. Kratzke,
Associate Administrator for Rulemaking.

[FR Doc. E6-12975 Filed 8-8-06; 8:45 am]

BILLING CODE 4910-59-P